DEPARTMENT OF TRANSPORTATION

Federal Aviation Administration

Public Notice for Waiver of Aeronautical Land-use Assurance

AGENCY: Federal Aviation Administration, DOT.

ACTION: Notice of intent of waiver with respect to land; Scott AFB/MidAmerica Airport, Belleville, Illinois.

SUMMARY: The Federal Aviation Administration (FAA) is considering a proposal to change 47.2262 acres of airport land from aeronautical use to non-aeronautical use and to authorize the sale of airport property located at Scott AFB/MidAmerica Airport, Belleville, Illinois. The aforementioned land is not needed for aeronautical use.

The St. Clair County Highway Department, in cooperation with the Federal Highway Administration (FHWA) and Illinois Department of Transportation are sponsoring a project to directly link Scott Air Force with the interstate system by constructing a new interchange on Interstate 64 at the Reider Road overpass (Mile Marker 21). St. Clair County, as the airport sponsor, plans to sell the subject property at fair market value to the St. Clair County Highway Department and Illinois Department of Transportation for the project.

DATES: Comments must be received on or before July 2, 2014.

ADDRESSES: Documents are available for review by appointment at the FAA Airports District Office, Gary D. Wilson, Program Manager, Federal Aviation Administration, Chicago Airports District Office, 2300 East Devon Avenue, Des Plaines, Illinois, 60018. Telephone Number 847-294-7631/FAX Number 847-294-7046 and Scott AFB/MidAmerica Airport, 9656 Air Terminal Drive, Ste 100, Mascoutah, Illinois 62258-5501, and (618) 566-5200/Fax: (618) 566-5299.

Written comments on the Sponsor's request must be delivered or mailed to Mr. Gary D. Wilson, Program Manager, Federal Aviation Administration, Chicago Airports District Office, 2300 East Devon Avenue, Des Plaines, Illinois 60018. Telephone: (847) 294-7631/Fax: (847) 294-7046.

FOR FURTHER INFORMATION CONTACT: Mr. Gary D. Wilson, Program Manager, Federal Aviation Administration, Chicago Airports District Office, 2300 E. Devon Avenue, Des Plaines, Illinois 60018. Telephone: (847) 294-7631/Fax: (847) 294-7046.

SUPPLEMENTARY INFORMATION: In accordance with section 47107(h) of Title 49, United States Code, this notice is required to be published in the Federal Register 30 days before modifying the land-use assurance that requires the property to be used for an aeronautical purpose.

The portion of airport property considered for release from federal obligation is located in the northwest quadrant of the airport along I64. The land parcels are associated with the following Airport Improvement Program Grant numbers: 3-17-0145-04-1991; 3-17-0145-06-1992; 3-17-0145-07-1993; 3-17-0145-08-1994, and 3-17-0146-18-2002. Currently, ownership of the property provides for protection of part 77 surfaces and compatible land use. On September 16, 1991, the Deputy Assistant Secretary of the Air Force (Installations) and the St. Clair County, executed a Joint Use Agreement to develop the Scott-Joint Use Project by acquiring land adjacent to Scott AFB. St. Clair County acquired 4,175 acres of land during the period of 1992 through 1995.

The disposition of proceeds from the sale of the airport property will be in accordance with FAA's Policy and Procedures Concerning the Use of Airport Revenue, published in the Federal Register on February 16, 1999 (64 FR 7696).

This notice announces that the FAA is considering the release of the subject property at Scott AFB/MidAmerica Airport, Belleville, Illinois, from Federal land covenants, subject to a reservation for continuing right of flight as well as restrictions on the released property as required in FAA Order 5190.6B, section 22.16. Approval does not constitute a commitment by the FAA to financially assist in the disposal of the subject airport property nor a determination of eligibility for grant-in-aid funding from the FAA.

Parcel 100002TK1 Legal Description

Part of Lot 7 in the North Half of Section 2 in Township 1 North, Range 7 West of the Third Principal Meridian, St. Clair County, Illinois, reference being had to the plat thereof recorded in the Recorder's Office of St. Clair County, Illinois, in Book of Plats “A”, on Page 255, described as follows:

Commencing at an iron rod set at the southwest corner of the Northwest Quarter of said Section 2; thence on an assumed bearing of North 00 degrees 11 minutes 45 seconds West on the west line of said Northwest Quarter, 50.00 feet to the north right of way line of Wherry Road (SA Route 82), as described in the Deed for Right-of-Way for Public Road Purposes to the County of St. Clair recorded in Book 969, Page 573 on July 23, 1951 and shown in Plat Book 45, Pages 104-105 in said Recorder's Office, also being the Point of Beginning.

From said Point of Beginning; thence continuing North 00 degrees 11 minutes 45 seconds West on the west line of said Northwest Quarter, 10.00 feet; thence South 89 degrees 56 minutes 49 seconds East, 394.54 feet; thence North 88 degrees 37 minutes 16 seconds East, 600.19 feet; thence South 89 degrees 56 minutes 48 seconds East, 122.15 feet; thence North 80 degrees 59 minutes 26 seconds East, 41.77 feet to the westerly right of way line of Rieder Road (also known as Township Road 222, and formerly known as Reuss Road), as described in the Deed for Right-of-Way for Public Road Purposes to the Town of Shiloh Valley as recorded in Book 1455, Page 165 on September 11, 1956 and shown in Plat Book 45, Page 38 in said Recorder's Office; thence South 11 degrees 42 minutes 59 seconds West on said westerly right of way line of Rieder Road, 46.89 feet; thence South 50 degrees 59 minutes 06 seconds West, 23.23 feet to the north right of way line of the aforesaid Wherry Road; thence the following five (5) courses and distances on said north right of way line of Wherry Road: (1) Thence North 89 degrees 44 minutes 49 seconds West, 178.98 feet ; (2) thence North 00 degrees 02 minutes 53 seconds East, 8.36 feet; (3) thence North 89 degrees 56 minutes 48 seconds West, 422.40 feet; (4) thence westerly 205.86 feet on a curve to the left, having a radius of 1,056.16 feet, a chord bearing North 84 degrees 21 minutes 46 seconds West, 205.54 feet; (5) thence North 89 degrees 56 minutes 48 seconds West, 324.45 feet to the Point of Beginning.

Said Parcel 100002TK1 herein described contains 0.7785 acre or 33,913 square feet, more or less.

Parcel 100002TK2 Legal Description

Part of Lot 7 in the North Half of Section 2 in Township 1 North, Range 7 West of the Third Principal Meridian, St. Clair County, Illinois, reference being had to the plat thereof recorded in the Recorder's Office of St. Clair County, Illinois, in Book of Plats “A”, on Page 255, described as follows:

Commencing at an iron rod set at the southwest corner of the Northwest Quarter of said Section 2; thence on an assumed bearing of South 89 degrees 46 minutes 42 seconds East on the south line of the Northwest Quarter of said Section 2, a distance of 1,211.13 feet to the easterly right of way line of Rieder Road (also known as Township Road 222, and formerly known as Reuss Road), as described in the Deed for Right-of-Way for Public Road Purposes to the Town of Shiloh Valley as recorded in Book 1455, Page 165 on September 11, 1956 and shown in Plat Book 45, Page 38 in said Recorder's Office, also being the Point of Beginning.

From said Point of Beginning; thence the following three (3) courses and distances on said easterly right of way line of Rieder Road: (1) Thence North 00 degrees 17 minutes 15 seconds East, 24.30 feet; (2) thence North 39 degrees 05 minutes 09 seconds West, 19.01 feet; (3) thence North 11 degrees 43 minutes 01 seconds East, 55.67 feet; thence North 80 degrees 59 minutes 26 seconds East, 137.32 feet; thence South 00 degrees 00 minutes 04 seconds West, 115.59 feet; thence North 89 degrees 46 minutes 42 seconds West, 135.07 feet to the Point of Beginning.

Said Parcel 100002TK2 herein described contains 0.3341 acre or 14,555 square feet, more or less.

Parcel 100011TK1 Legal Description

Part of Lot 1 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northwest Quarter of said Section 2; thence on an assumed bearing of South 89 degrees 10 minutes 52 seconds East on the north line of said Northwest Quarter, 1,010.90 feet to the northwest corner of said Lot 1 in the North One Half of Section 2; thence South 00 degrees 11 minutes 45 seconds East on the west line of said Lot 1, a distance of 14.98 feet to the south right of way line of O'Fallon-Shiloh Township Road (being 50 feet wide and also known as Township Road 61A), as described in the Deed for Right-of-Way for Public Road Purposes to the Town of Shiloh Valley as recorded in Book 969, Page 214 on January 9, 1943 and as shown in Book of Plats 42, Page 89 and being the Point of Beginning.

From said Point of Beginning; thence South 89 degrees 10 minutes 58 seconds East, 1,117.70 feet; thence South 16 degrees 20 minutes 32 seconds West, 67.32 feet; thence westerly 174.70 feet on a curve to the left having a radius of 765.00 feet, a chord bearing of North 82 degrees 38 minutes 25 seconds West, 174.32 feet; thence North 88 degrees 11 minutes 09 seconds West, 574.91 feet; thence North 89 degrees 10 minutes 57 seconds West, 351.05 feet to the west line of said Lot 1; thence North 00 degrees 11 minutes 45 seconds West on said west line, 35.01 feet to the Point of Beginning.

Said Parcel 100011TK1 herein described contains 1.0287 acres or 44,810 square feet, more or less.

Except all coal within and underlying the premises together will all mining rights and other rights, privileges and immunities relating thereto.

Parcel 200005PE1 Legal Description

Part of Lot 6 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northeast Quarter of said Section 2; thence on an assumed bearing of South 00 degrees 20 minutes 44 seconds East on the west line of said Northeast Quarter, 866.60 feet; thence South 89 degrees 14 minutes 05 seconds East, 146.29 feet to the easterly right of way line of Rieder Road (Township Road 222) at F.A.I. Route 64 as described in the Warranty Deed to the State of Illinois as recorded in Book 2003, Page 379 on March 16, 1966 in said Recorder's Office, and the Point of Beginning.

From said Point of Beginning; thence northeasterly on said easterly right of way line 99.38 feet on a curve to the left having a radius of 726.35 feet, a chord bearing North 12 degrees 17 minutes 12 seconds East, 99.31 feet; thence South 22 degrees 27 minutes 02 seconds East, 74.78 feet; thence South 13 degrees 55 minutes 09 seconds West, 39.15 feet; thence North 75 degrees 56 minutes 58 seconds West, 41.51 feet; to the point of beginning.

Said Parcel 200005PE1 herein described contains 0.0646 acre or 2,816 square feet, more or less.

Parcel 200005TK1 Legal Description

Part of Lot 6 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northeast Quarter of said Section 2; thence on an assumed bearing of South 00 degrees 20 minutes 44 seconds East on the west line of said Northeast Quarter, 62.17 feet; thence South 71 degrees 54 minutes 26 seconds East, 182.67 feet to the Point of Beginning.

From said Point of Beginning; thence continuing South 71 degrees 54 minutes 26 seconds East, 258.33 feet; thence South 18 degrees 05 minutes 34 seconds West, 190.00 feet; thence North 71 degrees 54 minutes 26 seconds West, 94.01 feet; thence South 58 degrees 10 minutes 17 seconds West, 53.56 feet; thence southwesterly 159.26 feet on a curve to the left having a radius of 435.00 feet, a chord bearing South 07 degrees 22 minutes 46 seconds West, 158.37 feet; thence South 03 degrees 06 minutes 32 seconds East, 79.14 feet to the easterly right of way line of Rieder Road (Township Road 222) at F.A.I. Route 64 as described in the Warranty Deed to the State of Illinois as recorded in Book 2003, Page 379 on March 16, 1966 in said Recorder's Office; thence North 22 degrees 33 minutes 37 seconds West, 343.21 feet on said right of way line and the existing easterly right of way of Rieder Road (formerly known as Reuss Road) as described in the Deed for Right-of-Way for Public Road Purposes to the Town of Shiloh Valley recorded in Book 969, Page 348 on April 1, 1948 in said Recorder's Office; thence South 71 degrees 54 minutes 26 seconds East, 35.69 feet; thence North 18 degrees 05 minutes 34 seconds East, 200.00 feet to the Point of Beginning.

Said Parcel 200005TK1 herein described contains 1.6030 acre or 69,829 square feet, more or less.

Parcel 300011PE1 Legal Description

Part of Lot 14 in the South One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Southwest Quarter of said Section 2; thence on an assumed bearing of South 89 degrees 46 minutes 42 seconds East on the north line of the Southwest Quarter of said Section 2, a distance of 1,109.28 feet; thence South 00 degrees 03 seconds 12 minutes West, 96.74 feet to the Point of Beginning.

From said Point of Beginning; thence continuing South 00 degrees 03 minutes 12 seconds West, 12.96 feet; thence southeasterly 241.03 feet on a curve to the left, having a radius of 365.00 feet, a chord bearing South 18 degrees 51 minutes 50 seconds East, 236.67 feet; thence southeasterly 285.95 feet on a curve to the right, having a radius of 1,091.16 feet, a chord bearing South 30 degrees 16 minutes 27 seconds East, 285.13 feet; thence South 67 degrees 14 minutes 00 seconds West, 35.00 feet to the northeasterly right of way line of Wherry Road (State Aid Route 82) as described in the Deed for Right-of-Way for Public Road Purposes to the County of St. Clair and recorded in Book 1245, Page 68 on July 23, 1951 in said Recorder's Office and as shown in Book of Plats Book 45, Pages 104-105; thence the following two (2) courses and distances on said northeasterly right of way line: (1) Thence northwesterly 668.58 feet on a curve to the left, having a radius of 1,056.16 feet, a chord bearing North 40 degrees 54 minutes 06 seconds West, 657.47 feet; thence South 89 degrees 56 minutes 48 seconds East, 242.51 to the Point of Beginning.

Said Parcel 300011PE1 herein described contains 0.8478 acre or 36,929 square feet, more or less.

Parcel 300011TK1 Legal Description

Part of Lot 14 in the South One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Southwest Quarter of said Section 2; thence on an assumed bearing of South 00 degrees 33 minutes 02 seconds East on the west line of the Southwest Quarter of said Section 2, a distance of 50.00 feet to the existing southerly right of way line of Wherry Road (State Aid Route 82) as described in the Deed for Right-of-Way for Public Road Purposes to the County of St. Clair and recorded in Book 1245, Page 68 on July 23, 1951 in said Recorder's Office and as shown in said Book of Plats Book 45, Pages 104-105, and the Point of Beginning.

From said Point of Beginning; thence South 89 degrees 56 minutes 49 seconds East, 323.71 feet on the said southerly right of way line; thence southeasterly 310.58 feet on said southerly right of way line, being a curve to the right having a radius of 956.16 feet, a chord bearing South 80 degrees 38 minutes 29 seconds East, 309.22 feet; thence North 89 degrees 56 minutes 48 seconds West, 35.11 feet; thence North 78 degrees 38 minutes 13 seconds West, 203.96 feet; thence North 89 degrees 56 minutes 48 seconds West, 393.65 feet to the west line of said Section 2; thence North 00 degrees 33 minutes 02 seconds West, 10.00 feet to the Point of Beginning.

Said Parcel 300011TK1 herein described contains 0.1529 acre or 6661 square feet, more or less.

Parcel 300011TK2 Legal Description

Part of Lots 9 and 14 in the South One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Southwest Quarter of said Section 2; thence on an assumed bearing of South 89 degrees 46 minutes 42 seconds East on the north line of the Southwest Quarter of said Section 2, a distance of 1,211.13 feet to the Point of Beginning.

From said Point of Beginning; thence continuing South 89 degrees 46 minutes 42 seconds East on the north line of the said Southwest Quarter, 135.07 feet; thence South 00 degrees 00 minutes 04 seconds West, 96.04 feet; thence North 89 degrees 56 minutes 48 seconds West, 479.51 feet to the northeasterly right of way line of Wherry Road (State Aid Route 82) as described in the Deed for Right-of-Way for Public Road Purposes to the County of St. Clair and recorded in Book 1245, Page 68 on July 23, 1951 in said Recorder's Office and as shown in Book of Plats Book 45, Pages 104-105; thence northwesterly 130.60 feet on said northeasterly right of way line, being a curve to the left having a radius of 1,056.16 feet, a chord bearing North 62 degrees 34 minutes 46 seconds West, 130.52 feet to the southerly right of way line of Rieder Road (TR 222) as shown in said Plat Book 45, Pages 104-105; thence the following four (4) courses and distances on said south right of way line of Rieder Road: (1) Thence South 89 degrees 56 minutes 49 seconds East, 350.34 feet; (2) thence North 00 degrees 03 minutes 24 seconds East, 11.12 feet; (3) thence South 89 degrees 44 minutes 49 seconds East; 109.82 feet; (4) thence North 00 degrees 17 minutes 15 seconds East, 25.70 feet to the Point of Beginning.

Said Parcel 300011TK2 herein described contains 0.8762 acre or 38,169 square feet, more or less.

Parcel 400005TK1 Legal Description

Part of the south 20 feet of the North Half of the Southeast Quarter of Section 35, Township 2 North, Range 7 West of the Third Principal Meridian, St. Clair County, Illinois, reference being had to the plat thereof recorded in the Recorder's Office of St. Clair County, Illinois, in Book of Plats “A”, Page 260,

Commencing at an iron rod found at the southwest corner of the Southeast Quarter of said Section 35; thence on an assumed bearing of North 00 degrees 23 minutes 54 seconds West on the west line of the Southeast Quarter of said Section 35, a distance of 1,316.95 feet to southwest corner of the Northwest Quarter of the Southeast Quarter of Section 35; thence continuing on said west line North 00 degrees 23 minutes 54 seconds West, 20.01; thence South 89 degrees 00 minutes 44 seconds East, 15.00 feet to the former easterly right of way line of a public road now known as Rieder Road as shown in Book of Plats “C”, Page 423 in said Recorder's Office and being the Point of Beginning.

From said Point of Beginning; thence continuing South 89 degrees 00 minutes 44 seconds East, 10.00 feet to the existing easterly right of way line of Rieder Road (also known as Township Road 222) as shown in Book of Plats 42, Page 159 in said Recorder's Office; thence continuing South 89 degrees 00 minutes 44 seconds East, 35.06 feet; thence South 00 degrees 24 minutes 06 seconds East, 20.01 feet to the south line of the Northwest Quarter of the Southeast Quarter of said Section 35; thence North 89 degrees 00 minutes 44 seconds West, 35.06 feet to said existing easterly right of way line of Rieder Road; thence continuing North 89 degrees 00 minutes 44 seconds West, 10.00 feet to the aforesaid former easterly right of way line; thence North 00 degrees 23 minutes 54 seconds West, 20.01 on said former easterly right of way line to the Point of Beginning.

Said Parcel 400005TK1 herein described contains 0.0207 acre or 901 square feet, more or less, of which 0.0046 acre or 200 square feet, more or less, has been previously used or dedicated for highway purposes as shown in Book of Plats 42, on Page 159 in the Recorder's Office of St. Clair County, Illinois.

Excepting the coal underlying the surface of said land and all rights and easements in favor of the estate of said coal.

Parcel 8311011 Legal Description

Part of the Northeast Quarter of Section 3 in Township 1 North, Range 7 West of the Third Principal Meridian, St. Clair County, Illinois, reference being had to the plat thereof recorded in the Recorder's Office of St. Clair County, Illinois, in Book of Plats “C” on page 423, described as follows:

Commencing at an iron rod set at the northeast corner of the Northeast Quarter of said Section 3; thence on an assumed bearing of South 00 degrees 11 minutes 45 seconds East on the east line of said Northeast Quarter, 546.73 feet to the Point of Beginning.

From said Point of Beginning; thence continuing South 00 degrees 11 minutes 45 seconds East on said east line, 7.38 feet to the northerly right of way line of F.A.I. Route 64 as described in the Warranty Deed to the State of Illinois as recorded in Book 2012, Page 525 on May 12, 1966 in said Recorder's Office; thence North 71 degrees 54 minutes 26 seconds West on said right of way line, 352.74 feet; thence leaving said right of way line South 73 degrees 03 minutes 11 seconds East, 350.50 feet to the Point of Beginning.

Said Parcel 8311011 herein described contains 0.0284 acre or 1,236 square feet, more or less.

Parcel 8311012 Legal Description

Part of the Northwest Quarter of Section 2 in Township 1 North, Range 7 West of the Third Principal Meridian, St. Clair County, Illinois, reference being had to the plat thereof recorded in the Recorder's Office of St. Clair County, Illinois, in Book of Plats “C” on Page 423, described as follows:

Commencing at an iron rod set at the northwest corner of the Northwest Quarter of said Section 2; thence on an assumed bearing of South 00 degrees 11 minutes 45 seconds East on the west line of said Northwest Quarter, 546.73 feet to the Point of Beginning.

From said Point of Beginning; thence South 73 degrees 03 minutes 11 seconds East, 899.00 feet; thence South 83 degrees 58 minutes 59 seconds East, 152.57 feet to the east line of a tract of land described as Parcel 1 in the Order Confirming Title for Condemnation Case 97-ED-1 filed in the Circuit Court Twentieth Judicial Circuit of St. Clair County, Illinois, and recorded in Book 3206, Page 1206 on November 25, 1997 in the Recorder's Office of said County; thence South 00 degrees 11 minutes 45 seconds East on said east line of Parcel 1, a distance of 59.93 feet to the northerly right of way line of F.A.I. Route 64 as described in the Warranty Deed to the State of Illinois as recorded in Book 2012, Page 525 on May 12, 1966 in said Recorder's Office; thence North 71 degrees 54 minutes 26 seconds West, 1,064.51 feet to the west line of said Northwest Quarter of Section 2; thence North 00 degrees 11 minutes 45 seconds West on said west Quarter Section line, 7.38 feet to the Point of Beginning.

Said Parcel 8311012 herein described contains 0.4824 acre or 21,014 square feet, more or less.

Parcel 8311013A Legal Description

Part of Lots 1, 4 and 6 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northwest Quarter of said Section 2; thence on an assumed bearing of South 89 degrees 10 minutes 52 seconds East on the north line of said Northwest Quarter, 1,010.90 feet to the northwest corner of Lot 1 in the North Half of said Section 2; thence South 00 degrees 11 minutes 45 seconds East on the west line of said Lots 1 and 4, a distance of 810.33 feet to the Point of Beginning.

From said Point of Beginning; thence South 83 degrees 58 minutes 59 seconds East, 52.08 feet; thence easterly 365.39 feet on a curve to the left having a radius of 860.00 feet, a chord bearing of North 81 degrees 15 minutes 48 seconds East, 362.65 feet; thence North 62 degrees 58 minutes 46 seconds East, 213.99 feet; thence easterly 376.00 feet on a curve to the right having a radius of 630.00 feet, a chord bearing South 89 degrees 00 minutes 18 seconds East, 370.44 feet; thence South 85 degrees 49 minutes 35 seconds East, 83.14 feet; thence North 71 degrees 46 minutes 37 seconds East, 62.05 feet; thence North 23 degrees 38 minutes 28 seconds East, 351.65 feet; thence North 18 degrees 05 minutes 34 seconds East, 137.91 feet to the westerly line of a tract of land described in the Quit Claim Deed to John C. Knoebel, Jr. as recorded in Book 3100, Page 279 on June 18, 1996 in said Recorder's Office; thence South 18 degrees 47 minutes 40 seconds East on said westerly line of the Knoebel tract of land, 346.46 feet; thence South 15 degrees 13 minutes 49 seconds West, 161.01 feet; thence South 01 degree 37 minutes 34 seconds East, 74.09 feet; thence South 71 degrees 54 minutes 19 seconds East, 97.70 feet; thence easterly 259.83 feet on a curve to the right having a radius of 665.00 feet, a chord bearing South 60 degrees 42 minutes 49 seconds East, 258.18 feet to the westerly right of way line of Rieder Road (Township Road 222) and the northerly right of way line of F.A.I. Route 64 as described in the Warranty Deed to the State of Illinois as recorded in Book 2003, Page 379 on March 16, 1966 in said Recorder's Office; thence the following six (6) courses and distances on said right of way line: (1) Thence southerly 153.16 feet on a curve to the right having a radius of 655.35 feet, a chord bearing South 27 degrees 06 minutes 11 seconds West, 152.81 feet; (2) thence South 41 degrees 09 minutes 41 seconds West, 140.15 feet; (3) thence South 46 degrees 05 minutes 34 seconds West, 185.76 feet; (4) thence North 71 degrees 54 minutes 29 seconds West, 300.10 feet; (5) thence North 77 degrees 37 minutes 04 seconds West, 351.75 feet; (6) thence North 71 degrees 54 minutes 26 seconds West, 801.34 feet to the west line of the aforesaid Lot 4; thence North 00 degrees 11 minutes 45 seconds West on said west line, 59.93 feet to the Point of Beginning.

Said Parcel 8311013A herein described contains 15.6928 acres or 683,578 square feet, more or less.

Parcel 8311013B Legal Description

Part of Lot 1 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northwest Quarter of said Section 2; thence on an assumed bearing of South 89 degrees 10 minutes 52 seconds East on the north line of said Northwest Quarter, 1,010.90 feet to the northwest corner of said Lot 1 in the North Half of said Section 2; thence South 00 degrees 11 minutes 45 seconds East on the west line of said Lot 1, a distance of 14.98 feet to the south right of way line of O'Fallon-Shiloh Township Road (being 50 feet wide and also known as Township Road 61A), as described in the Deed for Right-of-Way for Public Road Purposes to the Town of Shiloh Valley as recorded in Book 969, Page 214 on January 9, 1943 and as shown in Book of Plats 42, Page 89; thence South 89 degrees 10 minutes 58 seconds East on said southerly right of way line, 1,117.70 feet to the Point of Beginning.

From said Point of Beginning; thence continuing on said southerly right of way line South 89 degrees 10 minutes 58 seconds East, 124.03 to the westerly line of a tract of land described in the Quit Claim Deed to John C. Knoebel, Jr. as recorded in Book 3100, Page 279 on June 18, 1996 in said Recorder's Office; thence South 18 degrees 47 minutes 40 seconds East on the westerly line of said Knoebel tract of land, 127.62 feet; thence North 71 degrees 54 minutes 26 seconds West, 137.08 feet; thence westerly 55.95 feet on a curve to the left having a radius of 765.00 feet, a chord bearing North 74 degrees 00 minutes 09 seconds West, 55.94 feet; thence North 16 degrees 20 minutes 32 seconds East, 67.32 feet to the Point of Beginning.

Said Parcel 8311013B herein described contains 0.3166 acre or 13,791 square feet, more or less.

Except all coal within and underlying the premises together will all mining rights and other rights, privileges and immunities relating thereto.

Parcel 8311013PE Legal Description

Part of Lot 6 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northeast Quarter of said Section 2; thence on an assumed bearing of South 00 degrees 20 minutes 44 seconds East on the west line of said Northeast Quarter, 599.43 feet to the southerly line of a tract of land described in the Quit Claim Deed to John C. Knoebel, Jr. as recorded in Book 3100, Page 279 on June 18, 1996 in said Recorder's Office; thence North 71 degrees 10 minutes 46 seconds East on said southerly line, 89.12 feet to the Point of Beginning.

From said Point of Beginning; thence continuing North 71 degrees 10 minutes 46 seconds East, 14.58 feet to the westerly right of way line of Rieder Road (Township Road 222) and F.A.I. Route 64 as described in the Warranty Deed to the State of Illinois as recorded in Book 2003, Page 379 on March 16, 1966 in said Recorder's Office; thence southerly on said right of way line 288.29 feet on a curve to the right having a radius of 655.35 feet, a chord bearing South 03 degrees 50 minutes 40 seconds West, 285.97 feet; thence North 75 degrees 56 minutes 58 seconds West, 37.45 feet; thence North 25 degrees 16 minutes 19 seconds East, 105.29 feet; thence northerly 115.65 feet on a curve to the left, having a radius of 640.00 feet, a chord bearing North 02 degrees 04 minutes 03 seconds East, 115.49 feet; thence North 06 degrees 56 minutes 20 seconds West, 61.35 feet to the Point of Beginning.

Said Parcel 8311013PE herein described contains 0.1192 acre or 5,191 square feet, more or less.

Parcel 8311015 Legal Description

Part of Lots 7 and 8 in the North Half of Section 2 in Township 1 North, Range 7 West of the Third Principal Meridian, St. Clair County, Illinois, reference being had to the plat thereof recorded in the Recorder's Office of St. Clair County, Illinois, in Book of Plats “A”, on Page 255, described as follows:

Commencing at an iron rod set at the southwest corner of the Northwest Quarter of said Section 2; thence on an assumed bearing of South 89 degrees 46 minutes 42 seconds East on the south line of the Northwest Quarter of said Section 2, a distance of 1,346.20 feet to the Point of Beginning.

From said Point of Beginning; thence North 00 degrees 00 minutes 04 seconds East, 115.59 feet; thence North 80 degrees 59 minutes 26 seconds East, 192.80 feet; thence northerly 194.76 feet on a curve to the right having a radius of 1,000.00 feet, a chord bearing North 12 degrees 30 minutes 48 seconds East, 194.45 feet; thence North 25 degrees 38 minutes 11 seconds East, 276.47 feet to the southeasterly right of way line of Rieder Road (also known as Township Road 222, and formerly known as Reuss Road), according to Plat Book 45, Page 38 in said Recorder's Office; thence North 49 degrees 58 minutes 00 seconds East on said southeasterly right of way line as described in the Deed for Right-of-Way for Public Road Purposes to the Town of Shiloh Valley recorded in Book 1455, Page 165 on September 11, 1956 and the Warranty Deed to the State of Illinois for Rieder Road and FAI Route 64 as recorded in Book 2058, Page 242 on April 4, 1967, a distance of 667.76 feet to the northeasterly line of Lot 8 in the North Half of said Section 2; thence South 19 degrees 53 minutes 11 seconds East on said northeasterly lot line, 375.75 feet; thence westerly 176.99 feet on a curve to the right having a radius of 600.00 feet, a chord bearing North 80 degrees 21 minutes 28 seconds West, 176.35 feet; thence North 81 degrees 58 minutes 53 seconds West, 142.90 feet; thence South 25 degrees 28 minutes 50 seconds West, 155.54 feet; thence South 18 degrees 05 minutes 34 seconds West, 339.81 feet; thence southerly 172.27 feet on a curve to the left having a radius of 715.00 feet, a chord bearing South 11 degrees 11 minutes 29 seconds West, 171.85 feet; thence South 89 degrees 56 minutes 48 seconds East, 232.54 feet; thence South 00 degrees 03 minutes 12 seconds West, 81.02 feet to the south line of the Northwest Quarter of said Section 2; thence North 89 degrees 46 minutes 42 seconds West on said south line, 702.58 feet to the Point of Beginning.

Said Parcel 8311015 herein described contains 7.2988 acres or 317,934 square feet, more or less.

Parcel 8311018A Legal Description

Part of the Lots 1 and 6 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northeast Quarter of said Section 2; thence on an assumed bearing of North 89 degrees 14 minutes 11 seconds West on the north line of said Northeast Quarter, 37.92 feet to the easterly right of way line of O'Fallon-Shiloh Township Road (also known as Township Road 61A), as described in the Deed for Right-of-Way for Public Road Purposes to the Town of Shiloh Valley as recorded in Book 969, Page 214 on January 9, 1943 and as shown in Book of Plats 42, Page 89 in said Recorder's Office; thence southerly on said right of way line 57.52 feet, being a curve to the left having a radius of 478.34 feet, a chord bearing of South 15 degrees 52 minutes 09 seconds East, 57.49 feet to the Point of Beginning.

From said Point of Beginning; thence South 71 degrees 54 minutes 26 seconds East, 206.42 feet; thence South 18 degrees 05 minutes 34 seconds West, 200.00 feet; thence North 71 degrees 54 minutes 26 seconds West, 35.69 feet to the existing easterly right of way of Rieder Road (formerly known as Reuss Road) as described in the Deed for Right-of-Way for Public Road Purposes to the Town of Shiloh Valley recorded in Book 969, Page 348 on April 1, 1948 and as shown in Book of Plats 45, Page 38 in said Recorder's Office; thence North 22 degrees 33 minutes 37 seconds West on said right of way line, 235.88 feet; thence continuing on said right of way line northwesterly 27.10 feet on a curve to the right having a radius of 478.34 feet, a chord bearing North 20 degrees 56 minutes 14 seconds West, 27.10 feet to the Point of Beginning.

Said Parcel 8311018A herein described contains 0.5580 acre or 24,306 square feet, more or less.

Parcel 8311018B Legal Description

Part of the Lot 6 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northeast Quarter of said Section 2; thence South 00 degrees 20 minutes 44 seconds East on the west line of the Northeast Quarter of said Section 2, a distance of 1,203.09 feet to the southeasterly right of way line of Rieder Road (also known as Township Road 222) and FAI Route 64 as described in the Warranty Deed to the State of Illinois as recorded in Book 2003, Page 379 on March 16, 1966 in said Recorder's Office; thence North 49 degrees 58 minutes 00 seconds East on said right of way line, 218.66 feet; thence North 61 degrees 10 minutes 50 seconds West on the right of way line, 32.64 feet to the Point of Beginning.

From said Point of Beginning; thence continuing northwesterly on said southeasterly right of way line North 61 degrees 10 minutes 27 seconds West, 63.59 feet; thence northeasterly on said right of way line 33.23 feet being a curve to the left having a radius of 726.35 feet, a chord bearing North 27 degrees 30 minutes 55 seconds East, 33.23 feet; thence South 33 degrees 52 minutes 05 seconds East, 72.42 feet to the Point of Beginning.

Said Parcel 8311018B herein described contains 0.0242 acre or 1,052 square feet, more or less.

Parcel 8311018C Legal Description

Part of the Lot 1 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northeast corner of the Northwest Quarter of said Section 2; thence on an assumed bearing of North 89 degrees 14 minutes 11 seconds West on the north line of said Northwest Quarter, 29.69 feet to the Point of Beginning.

From said Point of Beginning; thence South 18 degrees 05 minutes 34 seconds West, 15.32 feet to the easterly right of way line of O'Fallon-Shiloh Township Road (also known as Township Road 61A), as described in the Deed for Right-of-Way for Public Road Purposes to the Town of Shiloh Valley as recorded in Book 969, Page 214 on January 9, 1943 and as shown in Book of Plats 42, Page 89 in said Recorder's Office; thence northwesterly on said right of way line 15.08 feet on a curve to the right, having a radius of 478.34 feet, a chord bearing of South 13 degrees 19 minutes 37 seconds East, 15.08 feet to the north line of said Northwest Quarter of Section 2; thence South 89 degrees 14 minutes 11 seconds East, 8.23 feet to the Point of Beginning.

Said Parcel 8311018C herein described contains 0.0014 acre or 61 square feet, more or less.

Parcel 8311019 Legal Description

Part of the Lots 10 and 11 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Northeast Quarter of said Section 2; thence on an assumed bearing of South 00 degrees 20 minutes 44 seconds East on the west line of the Northeast Quarter of said Section 2, a distance of 1,203.09 feet to the southeasterly right of way line of Rieder Road (also known as Township Road 222) and FAI Route 64 as described in the Warranty Deed to the State of Illinois as recorded in Book 2003, Page 379 on March 16, 1966 in said Recorder's Office and being the Point of Beginning.

From said Point of Beginning; thence North 49 degrees 58 minutes 00 seconds East on said right of way line, 203.59 feet; thence South 33 degrees 52 minutes 05 seconds East, 138.89 feet; thence South 31 degrees 40 minutes 01 second East, 155.30 feet; thence southeasterly 371.13 feet on a curve to the left having a radius of 865.00 feet, a chord bearing South 56 degrees 29 minutes 42 seconds East, 368.29 feet; thence South 68 degrees 47 minutes 11 seconds East, 645.61 feet; thence North 21 degrees 12 minutes 49 seconds East, 21.00 feet; thence South 68 degrees 47 minutes 11 seconds East, 110.00 feet; thence South 21 degrees 12 minutes 49 seconds West, 20.37 feet to the existing right of way line of FAI Route 64 as described in the Warranty Deed to the State of Illinois as recorded in Book 2058, Page 242 on April 4, 1967; thence the following three (3) courses and distances on said existing right of way line: (1) North 71 degrees 54 minutes 26 seconds West, 1,149.06 feet; (2) thence North 60 degrees 35 minutes 49 seconds West, 101.98 feet; (3) thence North 71 degrees 54 minutes 23 seconds West, 277.66 feet to the aforesaid Rieder Road right of way line; thence North 49 degrees 58 minutes 00 seconds East on said Rieder Road right of way line, 154.73 feet to the Point of Beginning.

Said Parcel 8311019 herein described contains 2.8329 acre or 123,400 square feet, more or less.

Parcel 8311020 Legal Description

Part of the Northwest Quarter of Section 2 in Township 1 North, Range 7 West of the Third Principal Meridian, St. Clair County, Illinois, reference being had to the plat thereof recorded in the Recorder's Office of St. Clair County, Illinois, in Book of Plats “C”, on Page 423, described as follows:

Commencing at an iron rod set at the southwest corner of the Northwest Quarter of said Section 2; thence on an assumed bearing of North 00 degrees 11 minutes 45 seconds West on the west line of the Northwest Quarter of said Section 2, a distance of 1,817.20 feet to the southerly right of way line of FAI Route 64 as described in the Warranty Deed to the State of Illinois as recorded in Book 2012, Page 525 on May 12, 1966 in said Recorder's Office; thence South 71 degrees 54 minutes 26 seconds East on said right of way line, 159.90 feet to the Point of Beginning.

From said Point of Beginning; thence continuing on said southerly right of way line South 71 degrees 54 minutes 26 seconds East, 904.61 feet to the east line of Lot 5 according to the plat recorded in Book of Plats “A”, on Page 255 in said Recorder's Office; thence South 00 degrees 11 minutes 45 seconds East on the said east line, 57.68 feet; thence northwesterly 88.25 feet on a curve to the left having a radius of 875.00 feet, a chord bearing North 65 degrees 53 minutes 49 seconds West, 88.22 feet; thence North 68 degrees 47 minutes 11 seconds West, 836.22 feet to the to the Point of Beginning.

Said Parcel 8311020 herein described contains 0.5244 acre or 22,845 square feet, more or less.

Parcel 8311021 Legal Description

Part of Lot 4 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the southwest corner of the Northwest Quarter of said Section 2; thence on an assumed bearing of North 00 degrees 11 minutes 45 seconds West on the west line of the Northwest Quarter of said Section 2, a distance of 1,817.20 feet to the southerly right of way line of FAI Route 64 as described in the Warranty Deed to the State of Illinois as recorded in Book 2012, Page 525 on May 12, 1966 in said Recorder's Office; thence South 71 degrees 54 minutes 26 seconds East on said right of way line, 1,064.51 feet to the west line of said Lot 4 and the Point of Beginning.

From said Point of Beginning; thence continuing on said southerly right of way line as described in the Warranty Deed to the State of Illinois as recorded in Book 2003, Page 379 on March 16, 1966 in said Recorder's Office, South 71 degrees 54 minutes 26 seconds East, 17.38 feet; thence South 00 degrees 11 minutes 45 seconds East, 60.92 feet; thence northwesterly 18.65 feet on a curve to the left having a radius of 875.00 feet, a chord bearing North 62 degrees 23 minutes 48 seconds West, 18.65 feet to the west line of said Lot 4; thence North 00 degrees 11 minutes 45 seconds West, 57.68 feet to the to the Point of Beginning.

Said Parcel 8311021 herein described contains 0.0224 acre or 978 square feet, more or less.

Parcel 8311022 Legal Description

Part of Lots 4 and 6 in Section 2 in Township 1 North, Range 7 West of the Third Principal Meridian, St. Clair County, Illinois, reference being had to the plat thereof recorded in the Recorder's Office of St. Clair County, Illinois, in Book of Plats “A”, on Page 255, described as follows:

Commencing at an iron rod set at the southeast corner of the Northwest Quarter of said Section 2; thence on an assumed bearing of North 00 degrees 20 minutes 44 seconds West on the east line of the Northwest Quarter of said Section 2, a distance of 922.39 feet to the southerly right of way line of FAI Route 64 as described in the Warranty Deed to the State of Illinois as recorded in Book 2058, Page 242 on April 4, 1967 in said Recorder's Office; thence North 83 degrees 13 minutes 02 seconds West on said right of way line, 47.36 feet; thence North 71 degrees 54 minutes 26 seconds West on said right of way line, 470.00 feet to the intersection with Rieder Road (also known as Township Road 222) as described in the Warranty Deed to the State of Illinois as recorded in Book 2003, Page 379 on March 16, 1966 in said Recorder's Office, and being the Point of Beginning.

From said Point of Beginning; thence on the northwesterly right of way line of said Rieder Road, South 42 degrees 47 minutes 21 seconds West, 275.81 feet; thence continuing on said right of way line of Rieder Road (formerly known as Reuss Road) as described in the Deed for Right-of-Way for Public Road Purposes to the Town of Shiloh Valley recorded in Book 969, Page 348 on April 1, 1948 and as shown in Book of Plats 45, Page 38 in said Recorder's Office, South 49 degrees 23 minutes 42 seconds West, 278.29 feet; thence North 18 degrees 05 minutes 34 seconds East, 117.36 feet; thence North 71 degrees 54 minutes 26 seconds West, 102.70 feet; thence westerly 372.48 feet on a curve to the right having a radius of 617.00 feet, a chord bearing North 54 degrees 36 minutes 45 seconds West, 366.85 feet; thence North 27 degrees 44 minutes 23 seconds West, 162.26 feet; thence northwesterly 373.66 feet on a curve to the left having a radius of 875.00 feet, a chord bearing North 49 degrees 33 minutes 08 seconds West, 370.83 feet to the east line of a tract of land described in the Warranty deed to Delmer Philip Scheurer and Lucille V. M. Scheurer as recorded in Book 2436, Page 1180 on January 23, 1976; thence North 00 degrees 11 minutes 45 seconds West on said Scheurer east line, 60.92 feet to the southerly right of way line of the aforesaid FAI Route 64; thence the following three (3) courses and distances on said southerly right of way line of FAI Route 64: (1) Thence South 71 degrees 54 minutes 26 seconds East, 761.25 feet; (2) thence South 57 degrees 52 minutes 15 seconds East, 206.16 feet; (3) thence South 71 degrees 54 minutes 26 seconds East, 230.01 feet to the Point of Beginning.

Said Parcel 8311022 herein described contains 7.1667 acres or 312,182 square feet, more or less.

Parcel 8311023 Legal Description

Part of Lots 10 and 11 in the North One Half of Section 2 in Township 1 North, Range 7 West of the Third Principal Meridian, St. Clair County, Illinois, reference being had to the plat thereof recorded in the Recorder's Office of St. Clair County, Illinois, in Book of Plats “A”, on Page 255, described as follows:

Commencing at an iron rod set at the southwest corner of the Northeast Quarter of said Section 2; thence on an assumed bearing of North 89 degrees 46 minutes 42 seconds West, 60.06 feet on the south line of the Northwest Quarter of said Section 2 to the southwest corner of said Lot 10; thence North 19 degrees 53 minutes 11 seconds West on the westerly line of said Lot 10, 708.03 feet to the Point of Beginning.

From said Point of Beginning; thence continuing North 19 degrees 53 minutes 11 seconds West, 375.75 feet to the southeasterly right of way line of Rieder Road (also known as Township Road 222); thence North 49 degrees 58 minutes 00 seconds East on said Rieder Road right of way line, 35.22 feet to the southerly right of way line of FAI Route 64 as described in the Warranty Deed to the State of Illinois as recorded in Book 2058, Page 242 on April 4, 1967 in said Recorder's Office; thence the following three (3) courses and distances on said FAI Route 64 right of way line: (1) Thence South 71 degrees 54 minutes 26 seconds East, 367.31 feet; (2) thence South 83 degrees 13 minutes 02 seconds East, 203.96 feet; (3) thence South 71 degrees 54 minutes 26 seconds East, 1,685.92 feet; thence North 73 degrees 03 minutes 11 seconds West, 1,249.41 feet; thence westerly 520.37 feet on a curve to the left, having a radius of 865.00 feet, a chord bearing South 89 degrees 42 minutes 47 seconds West, 512.56 feet; thence South 72 degrees 28 minutes 43 seconds West, 160.00 feet; thence westerly 195.96 feet on a curve to the right, having a radius of 600.00 feet, a chord bearing South 81 degrees 50 minutes 07 seconds West, 195.09 feet to the Point of Beginning.

Said Parcel 8311023 herein described contains 3.9553 acres or 172,295 square feet, more or less.

Parcel 8311024 Legal Description

Part of Lot 9 in the South One Half of Section 2 in Township 1 North, Range 7 West of the Third Principal Meridian, St. Clair County, Illinois, reference being had to the plat thereof recorded in the Recorder's Office of St. Clair County, Illinois, in Book of Plats “A”, on Page 255, described as follows:

Commencing at an iron rod set at the northwest corner of the Southwest Quarter of said Section 2; thence on an assumed bearing of South 89 degrees 46 minutes 42 seconds East on the north line of the Southwest Quarter of said Section 2, a distance of 1,346.20 feet to the Point of Beginning.

From said Point of Beginning; thence continuing on said north line, South 89 degrees 46 minutes 42 seconds East, 702.58 feet; thence South 00 degrees 03 minutes 12 seconds West, 68.98 feet; thence South 88 degrees 58 minutes 13 seconds West, 264.54 feet; thence South 00 degrees 03 minutes 12 seconds West, 246.00 feet; thence North 89 degrees 56 minutes 48 seconds West, 200.00 feet; thence North 06 degrees 30 minutes 34 seconds West, 227.49 feet; thence North 89 degrees 56 minutes 48 seconds West, 212.00 feet; thence North 00 degrees 00 minutes 04 seconds East, 96.04 feet to the Point of Beginning.

Said Parcel 8311024 herein described contains 2.5008 acres or 108,935 square feet, more or less.

Dated: Issued in Des Plaines, Illinois on May 13, 2014.
James G. Keefer,
Manager, Chicago Airports District Office, FAA, Great Lakes Region.

[FR Doc. 2014-12676 Filed 5-30-14; 8:45 am]

BILLING CODE 4910-13-P